NUCLEAR REGULATORY COMMISSION

10 CFR Part 72

RIN 3150-AI23

List of Approved Spent Fuel Storage Casks: HI-STORM 100 Revision 4, Confirmation of Effective Date

AGENCY: Nuclear Regulatory Commission.

ACTION: Direct final rule: Confirmation of effective date.

SUMMARY: The Nuclear Regulatory Commission (NRC) is confirming the effective date of January 8, 2008, for the direct final rule that was published in the Federal Register on October 25, 2007 (72 FR 60543). This direct final rule amended the NRC's regulations to revise the HI-STORM 100 cask system listing to include Amendment No. 4 to Certificate of Compliance (CoC) No. 1014.

DATES: Effective Date: The effective date of January 8, 2008, is confirmed for this direct final rule.

ADDRESSES: Documents related to this rulemaking, including any comments received, may be examined at the NRC Public Document Room, located at One White Flint North, 11555 Rockville Pike, Rockville, MD 20852.

FOR FURTHER INFORMATION CONTACT: Jayne M. McCausland, Office of Federal and State Materials and Environmental Management Programs, U.S. Nuclear Regulatory Commission, Washington, DC 20555, telephone (301) 415-6219, e-mail jmm2@nrc.gov.

SUPPLEMENTARY INFORMATION: On October 25, 2007 (72 FR 60543), the NRC published a direct final rule amending its regulations at 10 CFR 72.214 to revise the HI-STORM 100 cask system listing within the “List of Approved Spent Fuel Storage Casks” to include Amendment No. 4 to CoC No. 1014. This amendment modifies the CoC by adding site-specific options to permit use of a modified HI-STORM 100 cask system at the Indian Point Unit 1 (IP1) Independent Spent Fuel Storage Installation. These options include the shortening of the HI-STORM 100S Version B, Multi-Purpose Canister (MPC)-32 and MPC-32F, and the HI-TRAC 100D Canister to accommodate site-specific restrictions. Additional changes address the Technical Specification (TS) definition of transport operations and associated language in the safety analysis report; the soluble boron requirements for Array/Class 14×14E IP1 fuel; the helium gas backfill requirements for Array/Class 14×14E IP1 fuel; the addition of a fifth damaged fuel container design under the TS definition for damaged fuel container; addition of separate burnup, cooling time, and decay heat limits for Array/Class 14×14 IP1 fuel for loading in an MPC-32 and MPC-32F; addition of antimony-beryllium secondary sources as approved contents; the loading of all IP1 fuel assemblies in damaged fuel containers; the preclusion of loading of IP1 fuel debris in the MPC-32 or MPC-32F; the reduction of the maximum enrichment for Array/Class 14×14E IP1 fuel from 5.0 to 4.5 weight percent uranium-235; changes to licensing drawings to differentiate the IP1 MPC-32 and MPC-32F from the previously approved MPC-32 and MPC-32F; and other editorial changes, including replacing all references to U.S. Tool and Die with Holtec Manufacturing Division. In the direct final rule, NRC stated that if no significant adverse comments were received, the direct final rule would become final on January 8, 2008. The NRC did not receive any comments on the direct final rule. Therefore, this rule will become effective as scheduled.

Dated at Rockville, Maryland, this 26th day of December, 2007.
For the Nuclear Regulatory Commission.
Michael T. Lesar,
Chief, Rulemaking, Directives and Editing Branch, Division of Administrative Services, Office of Administration.

[FR Doc. E7-25439 Filed 12-31-07; 8:45 am]

BILLING CODE 7590-01-P